DEPARTMENT OF ENERGY

Federal Energy Regulatory Commission

[Docket No. RP01-39-000]

Wyoming Interstate Company, Ltd.; Notice of Compliance Filing

October 17, 2000.

Take notice that on October 11, 2000, Wyoming Interstate Gas Company, Ltd. (WIC) tendered for filing a letter stating that WIC believes it is currently in full compliance with Section 284.12(c)(2)(ii) of the Commission's Regulations. Order No. 587-L requires pipelines to be in compliance with this regulation by November 1, 2000, to permit shippers to offset imbalances on different contracts held by the shipper and to trade imbalance.

WIC further states that copies of its filing have been served on WIC's jurisdictional customers and public bodies.

Any person desiring to be heard or to protest said filing should file a motion to intervene or a protest with the Federal Regulatory Commission, 888 First Street, NE., Washington, DC 20426, in accordance with Sections 385.214 or 385.211 of the Commissions' Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-27097 Filed 10-20-00; 8:45 am]

BILLING CODE 6717-01-M